DEPARTMENT OF HEALTH AND HUMAN SERVICES

Centers for Medicare & Medicaid Services

[Document Identifier: CMS-10179]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Requests by Hospitals for an Alternative Cost-to-Charge Ration Instead of the Statewide Average Cost-to-Charge Ratio; Use: Because of the extensive gaming of outlier payments, CMS implemented new regulations in 42 CFR 412.84(i)(2) for inpatient hospitals and 42 CFR 412.525(a)(4)(ii) and 412.529(c)(5)(ii) for Long Term Care Hospitals (LTCH) to allow a hospital to contact its fiscal intermediaries to request that its cost-to-charge ratio (CCR) (operating and/or capital CCR for inpatient hospitals or the total (combined operating and capital) CCR for LTCHs), otherwise applicable, be changed if the hospital presents substantial evidence that the ratios are inaccurate for inpatient hospitals. Any such requests would have to be approved by the CMS Regional Office with jurisdiction over that FI. Form Number: CMS-10179 (OMB#: 0938-NEW); Frequency: Reporting—On occasion; Affected Public: Individuals or Households and Federal Government; Number of Respondents: 18; Total Annual Responses: 18; Total Annual Hours: 144.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on September 19, 2006.

CMS, Office of Strategic Operations and Regulatory Affairs, Division of Regulations Development—B, Attention: William N. Parham, III, Room C4-26-05, 7500 Security Boulevard, Baltimore, Maryland 21244-1850.

Dated: July 14, 2006.
Michelle Shortt,
Director, Regulations Development Group, Office of Strategic Operations and Regulatory Affairs.

[FR Doc. E6-11582 Filed 7-20-06; 8:45 am]

BILLING CODE 4120-01-P